DEPARTMENT OF VETERANS AFFAIRS

[OMB Control No. 2900-0605]

Agency Information Collection (Application for Accreditation as a Claims Agent or Attorney) Under OMB Review

AGENCY: Office of the General Counsel, Department of Veterans Affairs.

ACTION: Notice.

SUMMARY: In compliance with the Paperwork Reduction Act of 1995 (PRA) (44 U.S.C. 3501-3521), this notice announces that the Office of the General Counsel, Department of Veterans Affairs (VA), has submitted the collection of information abstracted below to the Office of Management and Budget (OMB) for review and comment. The PRA submission describes the nature of the information collection and its expected cost and burden; it includes the actual data collection instrument.

DATES: Comments must be submitted on or before June 12, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0605” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0605.”

SUPPLEMENTARY INFORMATION:

Titles:

a. Application for Accreditation as a Claims Agent or Attorney, VA Form 21a.

b. Filing of Representatives' Fee Agreements.

c. Motions for Review of Such Fee Agreements.

OMB Control Number: 2900-0605.

Type of Review: Revision of a currently approved collection.

Abstract: Applicants seeking accreditation as claims agents or attorneys to represent benefits claimants before VA must complete VA Form 21a. The applicant is required to file the application with VA's Office of the General Counsel to establish initial eligibility for accreditation. The information requested is necessary to establish the statutory and regulatory eligibility requirements, e.g., good character and reputation which includes basic identifying information, information concerning past representation, military service, employment, criminal activity and mental health of the applicant. The data is used to determine the applicant's eligibility for accreditation as a claims agent or attorney.

The data collected under Filing of Representatives' Fee Agreements is used to determine whether a fee agreement between claimants and their representative is in compliance with the law governing representation. The data collected under Motions for Review of Such Fee Agreements is used to determine the reasonableness of an agent or attorney fee from a claimant's award of VA benefits.

An agency may not conduct or sponsor, and a person is not required to respond to a collection of information unless it displays a currently valid OMB control number. The Federal Register Notice with a 60-day comment period soliciting comments on this collection of information was published on February 10, 2014, at pages 7743-7744.

Affected Public: Individuals and households.

Estimated Annual Burden:

a. Application for Accreditation as a Claims Agent, VA Form 21a—1,987.50 hours.

b. Filing of Representatives' Fee Agreements—2,500 hours.

c. Motions for Review of Such Fee Agreements—42 hours.

Estimated Average Burden Per Respondent:

a. Application for Accreditation as a Claims Agent or Attorney, VA Form 21a—45 minutes.

b. Filing of Representatives' Fee Agreements—0.2 hour.

c. Motions for Review of Such Fee Agreements—2 hours.

Frequency of Response: On occasion.

Estimated Number of Respondents:

a. Application for Accreditation as a Claims Agent, VA Form 21a—2,650.

b. Filing of Representatives' Fee Agreements—12,000.

c. Motions for Review of Such Fee Agreements—21.

Dated: May 8, 2014.
By direction of the Secretary.
Crystal Rennie,
Department Clearance Officer, Department of Veterans Affairs.

[FR Doc. 2014-10902 Filed 5-12-14; 8:45 am]

BILLING CODE 8320-01-P